DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 62554-62559, dated October 12, 2010) is amended to reflect the reorganization of the National Institute for Occupational Safety and Health (CC), Centers for Disease Control and Prevention (C).

Section C-B, Organization and Functions, is hereby amended as follows:

Delete in its entirety the titles and functional statements for the Office of Mine Safety and Health Research (CCM) and insert the following:

Office of Mine Safety and Health Research (CCM). The Office of Mine Safety and Health Research (OMSHR): (1) Provides national and international leadership for the prevention of work-related illness, injury, and fatalities of mine workers through research and prevention activities at the Pittsburgh, Spokane, and Lake Lynn Laboratories; (2) conducts field studies to identify emerging hazards, to understand the underlying causes of mine safety and health problems, and to evaluate the effectiveness of interventions; (3) develops engineering and behavioral-based interventions, including training programs, to improve safety and health in the mines; trains mine safety and health trainers, and for evaluation purposes, conducts mine rescue and escape training for miners and mine rescue teams; (4) performs research, development, and testing of new technologies, equipment, and practices to enhance mine safety and health; (5) awards competitive grants and contracts to encourage the development, testing, demonstration, adoption, and manufacture of mine safety equipment and technologies; (6) develops best practices guidance for interventions; (7) transfers mining research and prevention products into practice; (8) coordinates NIOSH research and prevention activities for the mining sector; (9) provides policy guidance to the NIOSH Director on mining safety and health issues; and (10) provides for planning, oversight, and resource management of OMSHR's activities related to the conduct of programs, including: human capital and budget management, procurement, policy-setting and interpretation, and special initiatives.

Division of Mining Science and Technology (CCMD). The Division of Mining Science and Technology: (1) Studies global technology developments in areas of potential benefit to mining safety and health; (2) devises research or evaluation protocols to assess the efficacy of candidate technologies; (3) develops and implements work plans to adapt promising technologies for a mining application; (4) leads research-to-practice activities to facilitate adoption of key safety and health technologies; (5) utilizes contracts and grants to facilitate the goals of the MINER Act; (6) coordinates with the Division of Mining Research Operations for effective utilization of laboratory and human resources to accomplish the mission of the OMSHR; (7) provides vision and leadership, and coordinates the processes, to ensure an environment thriving with scientific excellence, integrity, and innovation; and (8) provides for the surveillance, health communications, and computational support needs of the OMSHR.

Health Communications, Surveillance and Research Support Branch (CCMDB). (1) Collects and analyzes health and safety data related to mining occupations in order to report on the overall incidence, prevalence and significance of occupational safety and health problems in mining; (2) describes trends in incidence of mining-related fatalities, morbidity, and traumatic injury; (3) conducts surveillance on the use of new technology, the use of engineering controls, and the use of protective equipment in the mining sector; (4) coordinates surveillance activities with other NIOSH surveillance initiatives; (5) provides statistical support for surveillance and research activities of the laboratory; (6) analyzes and assists in the development of research protocols for developing studies; (7) coordinates planning, analysis, and evaluation of the OMSHR research program for achieving organizational goals; (8) collaborates with research staff to translate findings from laboratory research to produce compelling products that motivate the mining sector to engage in improved injury control and disease prevention activities; (9) coordinates with other health communication, health education, and information dissemination activities within NIOSH and CDC to ensure that mining research information is effectively integrated into the CDC dissemination and intervention strategies; and (10) supports mining research through the development and application of computational tools and techniques that advance the understanding and mitigation of mining health and safety problems.

Division of Mining Research Operations (CCME). The Division of Mining Research Operations: (1) Develops new knowledge, engineering and behavioral interventions, and new technologies to improve mining safety and health; (2) implements and manages the mining research portfolio to accomplish the functional goals of the OMSHR; (3) develops, manages, and operates the laboratory science programs at the Pittsburgh and Spokane facilities and the experimental programs at mines, including the experimental mines at Lake Lynn and Pittsburgh; (4) conducts research-to-practice activities; and (5) coordinates with the Division of Mining Science and Technology for effective utilization of laboratory and human resources to accomplish the mission of the OMSHR.

Ground Control Branch (CCMEB). (1) Conducts laboratory and field investigations of catastrophic events such as catastrophic structural or ground failures to better understand cause and effect relationships that initiate such events; (2) designs, evaluates, and implements appropriate intervention strategies and engineering controls to prevent ground failures; (3) develops, tests, and promotes the use of rock safety engineering prediction and risk evaluation systems for control or reduction of risk; (4) conducts laboratory and field investigations of surface mining operations to ensure appropriate engineering designs to prevent slope and highwall failures; (5) conducts research using a variety of techniques including numerical modeling and laboratory testing and experiments to ensure a full understanding of rock behavior and performance during rock excavation and mining operations; (6) develops, tests, and demonstrates sensors, predictive models, and engineering control technologies to reduce miners' risk for injury or death; and (7) conducts research investigations using a wide-variety of measurement and sensor technologies including in-mine and surface systems and technologies to ensure the structural stability of mining operations.

Dust, Ventilation and Toxic Substances Branch (CCMEC). (1) Develops, plans, and implements a program of research to develop or improve personal and area direct reading instruments for measuring mining contaminants including, but not limited to, respirable dust, silica, diesel particulates and exhaust and a variety of toxic and other potentially harmful exposures; (2) conducts field tests, experiments, and demonstrations of new technology for monitoring and assessing mine air quality; (3) designs, plans, and implements laboratory and field research to develop airborne hazard reduction control technologies; (4) carries out field surveys in mines to identify work organization strategies that could result in reduced dust exposures, diesel particulate exposures, toxic substance exposures and exposures to other potentially harmful exposures; (5) evaluates the performance, economics, and technical feasibility of engineering control strategies, novel approaches, and the application of new or emerging technologies for underground and surface mine dust and respiratory hazard control systems; (6) develops and evaluates implementation strategies for using newly developed monitors and control technology for exposure reduction or prevention; and (7) conducts field and laboratory experiments on mine ventilation systems to develop improved technologies and strategies for applications to dust control, gas control, diesel exhaust control to ensure safe and healthy conditions for underground miners.

Human Factors Branch (CCMED). (1) Conducts laboratory, field, and computer modeling research to focus on human physiological capabilities and limitations and their interactions with mining jobs, tasks, equipment, and the mine work environment; (2) designs and conducts epidemiological research studies to identify and classify risk factors that cause, or may cause, traumatic and cumulative/repetitive injuries to miners; (3) designs, builds, and tests proposed interventions, including demonstrations of proposed technologies using laboratory mock-ups, full-scale demonstrations at the laboratory's experimental mines, or through field evaluation in operating mines; (4) evaluates and recommends implementation strategies for injury prevention and control technologies developed by the laboratory; and (5) conducts human factors research and provides effective training and work organization techniques for mining.

Electrical and Mechanical Systems Safety Branch (CCMEE). (1) Conducts laboratory, field, and computer modeling research to assess the health and safety relevance of mining equipment design features; (2) using scientific and engineering techniques, analyzes case-studies of injuries and fatalities resulting from mining equipment and develops interventions and strategies for reducing or eliminating the hazards; (3) conducts laboratory and field research to assess the safety hazards of electrical systems used in mining operations and develops interventions and strategies to reduce or eliminate the hazards; (4) develops novel approaches for improving the operational safety of working around, and on, mining machinery; and (5) conducts laboratory and field research on communication systems, tracking systems and monitoring systems as needed to ensure their viability and safety during routine mining operations as well as post-disaster conditions.

Fires and Explosions Branch (CCMEG). (1) Conducts experiments and studies at the Lake Lynn Laboratory and the Bruceton Experimental Mine as well as field experiments at operating mines to prevent catastrophic events such as mine explosions, mine fires, and gas and water inundations to better understand cause and effect relationships which initiate such events; (2) develops new or improved strategies and technologies for mine fire prevention, detection, control, and suppression; (3) investigates and develops an understanding of the critical parameters and their interrelationships governing the mitigation and propagation of explosions, and develops and facilitates the implementation of interventions to prevent mine explosions; (4) develops new controls and strategies for eliminating explosions or fires or minimizing the impact of explosions on the safety of mine workers by improving suppression systems, improving detection of sentinel events, and improving much needed escape and rescue approaches; (5) works with the mining industry and other government agencies to ensure research gaps and technology needs are met for mine rescue teams, and provides a test bed in the experimental mines to develop and evaluate rescue technologies and training methods; and (6) identifies and evaluates emerging health and safety issues as mining operations move into more challenging and dangerous geologic conditions.

Hearing Loss Prevention Branch (CCMEH). (1) Plans and conducts laboratory and field research on noise-induced hearing loss in miners; (2) conducts field dosimetric and audiometric surveys to assess the extent and severity of the problem, to identify those mining segments in greatest need of attention, and to objectively track progress in meeting hearing loss prevention goals; (3) conducts field and laboratory research to identify noise generation sources and to identify those areas most amenable to intervention activities; (4) develops, tests, and demonstrates new control technologies for noise reduction; (5) evaluates the technical and economic feasibility of controls; (6) develops, evaluates, recommends and empowers workers with implementation strategies to promote the adoption and use of noise reduction technology; and (7) improves the reliability of communication in noisy workplaces.

Dated: November 5, 2010.
William P. Nichols,
Chief Operating Officer, Centers for Disease Control and Prevention.

[FR Doc. 2010-28948 Filed 11-16-10; 8:45 am]

BILLING CODE 4160-18-M